DEPARTMENT OF COMMERCE

International Trade Administration

[C-570-195]

Active Anode Material From the People's Republic of China: Postponement of Preliminary Determination in the Countervailing Duty Investigation

AGENCY: Enforcement and Compliance, International Trade Administration, Department of Commerce.

DATES: Applicable February 19, 2025.

FOR FURTHER INFORMATION CONTACT: Gorden Struck, AD/CVD Operations, Office II, Enforcement and Compliance, International Trade Administration, U.S. Department of Commerce, 1401 Constitution Avenue NW, Washington, DC 20230; telephone: (202) 482-8151.

SUPPLEMENTARY INFORMATION:

Background

On January 7, 2025, the U.S. Department of Commerce (Commerce) initiated the countervailing duty (CVD) investigation of imports of active anode material from the People's Republic of China.¹ Currently, the preliminary determination in this investigation is due no later than March 13, 2025.

¹ See Active Anode Material from the People's Republic of China: Initiation of Countervailing Duty Investigation, 90 FR 3788 (January 15, 2025).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination in a CVD investigation until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On February 6, 2025, the petitioner ² in this investigation timely requested that Commerce postpone the preliminary determination.³ The petitioner requested postponement of the preliminary determination so that Commerce can fully analyze the forthcoming questionnaire responses of the mandatory respondents and issue supplemental questionnaires, as necessary, prior to the issuance of the preliminary determination.⁴

² The petitioner is the American Active Anode Material Producers.

³ See Petitioner's Letter, “Request to Postpone Preliminary Determination,” dated February 6, 2025.

⁴ Id.

In accordance with 19 CFR 351.205(e), the petitioner submitted its request for postponement of the preliminary determination in this investigation 25 days or more before the scheduled date of the preliminary determination and stated the reasons for its request. Accordingly, Commerce finds no compelling reason to deny the request. Therefore, in accordance with section 703(c)(1)(A) of the Act, Commerce is postponing the deadline for the preliminary determination in this investigation to no later than 130 days after the date on which it initiated this investigation, i.e., May 19, 2025.⁵ Pursuant to section 705(a)(1) of the Act and 19 CFR 351.210(b)(1), the deadline for the final determination of this investigation will continue to be 75 days after the date of the preliminary determination.

⁵ Because postponing the preliminary determination to 130 days after initiation of the investigation makes the deadline fall on the weekend (i.e., Saturday, May 17, 2025), the deadline is the next business day (i.e., May 19, 2025). See Notice of Clarification: Application of “Next Business Day” Rule for Administrative Determination Deadlines Pursuant to the Tariff Act of 1930, as Amended, 70 FR 24533 (May 10, 2005).

Notification to Interested Parties

This notice is issued and published pursuant to section 703(c)(2) of the Act and 19 CFR 351.205(f)(1).

Dated: February 12, 2025.
Christopher Abbott,
Deputy Assistant Secretary for Policy and Negotiations, performing the non-exclusive functions and duties of the Assistant Secretary for Enforcement and Compliance.

[FR Doc. 2025-02796 Filed 2-18-25; 8:45 am]

BILLING CODE 3510-DS-P